DEPARTMENT OF THE INTERIOR

National Park Service

[NPS-WASO-NAGPRA-13482; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum, University of Washington (Burke Museum), has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Burke Museum. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Burke Museum at the address in this notice by September 18, 2013.

ADDRESSES: Peter Lape, Burke Museum, University of Washington, Box 35101, Seattle, WA 98195, telephone (206) 685-3849, email plape@uw.edu.

SUPPLEMENTARY INFORMATION: Notice is here given in accordance with the Native American Graves Protection and Repatriation Act (NAGPRA), 25 U.S.C. 3003, of the completion of an inventory of human remains and associated funerary objects under the control of the Burke Museum, Seattle, WA. The human remains and associated funerary objects were removed from Skagit County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the Burke Museum professional staff in consultation with representatives of the Lummi Tribe of the Lummi Reservation; Samish Indian Nation (previously listed as the Samish Indian Tribe, Washington); Sauk-Suiattle Indian Tribe; Stillaguamish Tribe of Indians of Washington (previously listed as Stillaguamish Tribe of Washington); Swinomish Indians of the Swinomish Reservation of Washington; Tulalip Tribes of Washington (previously listed as the Tulalip Tribes of the Tulalip Reservation, Washington); and the Upper Skagit Indian Tribe (hereafter referred to as “The Consulted Tribes”).

History and Description of the Remains

In 1960, human remains representing, at minimum, three individuals were removed from the Dunlap/Sedro Wooley High School Site (45-SK-35) on the Skagit River delta in Skagit County, WA. The human remains were removed during a University of Washington Field School Expedition led by Dr. Robert E. Greengo, and the human remains were transferred to the Burke Museum sometime before 1995 (Burke Accn. #1995-59). No known individuals were identified. The two associated funerary objects are a bird bone and a mammal bone.

In the 1970s, human remains representing, at minimum, one individual were removed from the Conway Site (45-SK-59) on the Skagit River delta in Skagit County, WA. The human remains were removed by Dr. Gail Thompson in the 1970s and transferred to the Burke Museum in 1983 (Burke Accn. #1983-11). No known individuals were identified. No funerary objects are present.

The sites described in this notice are located on the North and South Forks of the Skagit River and are documented archaeological sites. The human remains in this notice have been determined to be Native American based on archaeological evidence. The Conway Site includes both an archaeological wet site component as well as a shell midden component and dates to approximately 670 radiocarbon years ago. Material culture observed at the sites, projectile points, carved antler fragments, ochre, toggling harpoons, faunal material and basketry, is consistent with Native American Coast Salish material culture.

Linguistically, Native American speakers of the Northern dialect of the Lushootseed language claim cultural heritage to the Skagit River delta area. Historical and anthropological sources (Amoss 1978, Mooney 1896, Spier 1936, Swanton 1952) indicate that the Swinomish, Lower Skagit, and Upper Skagit people occupied and had village sites within the Skagit River delta area. Oral history provided by the Stillaguamish and legal testimony during the Indian Claims Commission decisions also indicates that the Stillaguamish utilized the Skagit River delta and Skagit Bay area for hunting, fishing, and clamming (Grady 2012:3). The Indian Claims Commission determined that the Conway site was within the aboriginal territory of the Kikiallus and the Dunlap/Sedro Wooley High School Site was within the aboriginal territory of the Lower Skagit. Today, descendants of Kikiallus are members of the Stillaguamish Tribe of Indians of Washington (previously listed as Stillaguamish Tribe of Washington); the Swinomish Indians of the Swinomish Reservation of Washington; and the Tulalip Tribes of Washington (previously listed as the Tulalip Tribes of the Tulalip Reservation, Washington). Today, the Lower Skagit are represented by the Swinomish Indians of the Swinomish Reservation of Washington. The Upper Skagit are represented by the Upper Skagit Indian Tribe.

Determinations Made by the Burke Museum

Officials of the Burke Museum have determined that:

• Based on archaeological evidence, the human remains have been determined to be Native American.

• Pursuant to 25 U.S.C. 3001(9), the human remains described in this notice represent the physical remains of four individuals of Native American ancestry.

• Pursuant to 25 U.S.C. 3001(3)(A), the two objects described in this notice are reasonably believed to have been placed with or near individual human remains at the time of death or later as part of the death rite or ceremony.

• Pursuant to 25 U.S.C. 3001(2), there is a relationship of shared group identity that can be reasonably traced between the Native American human remains and associated funerary objects and the Stillaguamish Tribe of Indians of Washington (previously listed as Stillaguamish Tribe of Washington); Swinomish Indians of the Swinomish Reservation of Washington; Tulalip Tribes of Washington (previously listed as the Tulalip Tribes of the Tulalip Reservation, Washington); and the Upper Skagit Indian Tribe.

Additional Requestors and Disposition

Lineal descendants or representatives of any Indian tribe or Native Hawaiian organization not identified in this notice that wish to request transfer of control of these human remains and associated funerary objects should submit a written request with information in support of the request Peter Lape, Burke Museum, University of Washington, Box 35101, Seattle, WA 98195, telephone (206) 685-3849, email plape@uw.edu, by September 18, 2013. After that date, if no additional requestors have come forward, transfer of control of the human remains and associated funerary objects to the Stillaguamish Tribe of Indians of Washington (previously listed as Stillaguamish Tribe of Washington); Swinomish Indians of the Swinomish Reservation of Washington; Tulalip Tribes of Washington (previously listed as the Tulalip Tribes of the Tulalip Reservation, Washington); and the Upper Skagit Indian Tribe may proceed.

The Burke Museum is responsible for notifying The Consulted Tribes that this notice has been published.

Dated: July 10, 2013.
David Tarler,
Acting Manager, National NAGPRA Program.

[FR Doc. 2013-20029 Filed 8-16-13; 8:45 am]

BILLING CODE 4312-50-P